DEPARTMENT OF HOMELAND SECURITY

Coast Guard

[Docket No. USCG-2010-0316]

National Boating Safety Advisory Council; Vacancies

AGENCY: U.S. Coast Guard, Department of Homeland Security.

ACTION: Request for applications.

SUMMARY: The U.S. Coast Guard seeks applications for membership on the National Boating Safety Advisory Council. This Council advises the Coast Guard on recreational boating safety regulations and other major boating safety matters.

DATES: Completed applications should reach the U.S. Coast Guard on or before May 21, 2018.

ADDRESSES: Applicants should send a cover letter expressing interest in an appointment to the National Boating Safety Advisory Council and a resume detailing the applicant's boating experience. We will not accept a biography. Incomplete applications will not be considered. The cover letter and/or resume should include the following:

• Membership category the applicant is seeking an appointment for;

• Home address, phone number and email address;

• Employer name and address (if applicable); and

• Work phone number and email address (if applicable).

Applications should be submitted via one of the following methods:

• By email: NBSAC@uscg.mil (preferred).

• By mail: Commandant (CG-BSX-2), Attn: NBSAC ADFO, U.S. Coast Guard Stop 7501, 2703 Martin Luther King Ave. SE, Washington, DC 20593-7501.

FOR FURTHER INFORMATION CONTACT: Mr. Jeff Ludwig, Alternate Designated Federal Officer of the National Boating Safety Advisory Council; telephone 202-372-1061 or email at NBSAC@uscg.mil.

SUPPLEMENTARY INFORMATION: The National Boating Safety Advisory Council is a Federal advisory committee which operates under the provisions of Federal Advisory Committee Act, (Title 5 U.S.C., Appendix). It was established under the authority of 46 United States Code 13110 and advises the U.S. Coast Guard on boating safety regulations and other major boating safety matters. The Council usually meets at least twice each year at a location selected by the U.S. Coast Guard. It may also meet for extraordinary purposes. Subcommittees or working groups may also meet to consider specific issues.

Each member serves for a term of three years. Members may be considered to serve a maximum of two consecutive full terms. All members serve at their own expense and receive no salary, or other compensation from the Federal Government. The exception to this policy is when attending National Boating Safety Advisory Council meetings; members may be reimbursed for travel expenses and provided per diem in accordance with Federal Travel Regulations.

We will consider applications for the following seven positions that will be vacant on January 1, 2019:

• Two representatives of State officials responsible for State boating safety programs;

• Two representatives of recreational boat and associated equipment manufacturers; and

• Three representatives of national recreational boating organizations or the general public.

If you are selected as a member from the general public, you will be appointed and serve as a Special Government Employee as defined in section 202(a) of Title 18, United States Code. Applicants for appointment as a Special Government Employee are required to complete a Confidential Financial Disclosure Report (OGE Form 450). The U.S. Coast Guard may not release the reports or the information in them to the public except under an order issued by a Federal court or as otherwise provided under the Privacy Act (5 U.S.C. 552a). Only the Designated U.S. Coast Guard Ethics Official or his or her designee may release a Confidential Financial Disclosure Report. Applicants can obtain this form by going to the website of the Office of Government Ethics (www.oge.gov) or by contacting the individual listed above in FOR FURTHER INFORMATION CONTACT. Applications for a member drawn from the general public must be accompanied by a completed OGE Form 450.

Registered lobbyists are not eligible to serve on federal advisory committees in an individual capacity. See “Revised Guidance on Appointment of Lobbyists to Federal Advisory Committees, Boards and Commissions” (79 FR 47482, August 13, 2014). The position we list for a member from the general public would be someone appointed in their capacity and would be designated as a Special Government Employee as defined in section 202(a) of Title 18, U.S.C. Registered lobbyists are lobbyist as defined in 2 U.S.C. 1602 who are required by 2 U.S.C 1603 to register with the Secretary of the Senate and the Clerk of the House Representative.

Applicants are considered for membership on the basis of their particular expertise, knowledge, and experience in recreational boating safety. In addition to recreational boating safety experience, the U.S. Coast Guard is particularly interested in applicants who also have experience developing and implementing national media outreach campaigns designed to influence the decision-making of targeted audiences. The vacancies announced in this notice apply to membership positions that become vacant on January 1, 2019. Appointments for the 2017 and 2018 vacancies remain pending. Individuals who have applied for National Boating Safety Advisory Council membership in any prior years are asked to re-submit a complete application if the individual wishes to apply for any of the vacancies announced in this notice.

To be eligible, applicants should have experience in one of the categories listed in the SUPPLEMENTARY INFORMATION section.

The Department of Homeland Security does not discriminate in selection of Council members on the basis of race, color, religion, sex, national origin, political affiliation, sexual orientation, gender identity, marital status, disability and genetic information, age, membership in an employee organization, or other non-merit factor. The Department of Homeland Security strives to achieve a widely diverse candidate pool for all of its recruitment actions.

If you are interested in applying to become a member of the Council, send your cover letter and resume to Mr. Jeff Ludwig, Alternate Designated Federal Officer of the National Boating Safety Advisory Council via one of the transmittal methods in the ADDRESSES section by the deadline in the DATES section of this notice. All email submittals will receive email receipt confirmation.

Dated: March 9, 2018.
Jennifer F. Williams,
Captain, U.S. Coast Guard, Director of Inspections and Compliance.

[FR Doc. 2018-05566 Filed 3-19-18; 8:45 am]

BILLING CODE 9110-04-P